DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its collection, titled Technology Partnerships Ombudsmen Reporting Requirements, OMB Control Number 1910-5118. The proposed collection will identify the number and nature of complaints received and resolved by technology partnership ombuds related to technology partnerships, patents, and licenses.

DATES: Comments regarding this collection must be received on or before June 16, 2025. If you anticipate that you will be submitting comments but find it difficult to do so within the period allowed by this notice, please advise the OMB Desk Officer of your intention to make a submission as soon as possible. The Desk Officer may be telephoned at (202) 881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Phillip Harmonick, Office of Hearings and Appeals, U.S. Department of Energy, 1000 Independence Avenue SW, Washington, DC 20585, (202) 287-1566, Phillip.Harmonick@hq.doe.gov.

SUPPLEMENTARY INFORMATION: This information collection request contains:

(1) OMB No.: 1910-5118;

(2) Information Collection Request Title: Technology Partnerships Ombudsmen Reporting Requirements;

(3) Type of Request: Extension;

(4) Purpose: DOE's Alternative Dispute Resolution Office is one of four entities that collects reports required by the Technology Transfer Commercialization Act of 2000 from technology partnership ombuds at each DOE national laboratory. These reports are intended to demonstrate the extent to which each national laboratory has incorporated alternative dispute resolution techniques into its respective technology transfer program;

(5) Annual Estimated Number of Respondents: 17;

(6) Annual Estimated Number of Total Responses: 68;

(7) Annual Estimated Number of Burden Hours: 23;

(8) Annual Estimated Reporting and Recordkeeping Cost Burden: $3,220.

Statutory Authority: Section 11 of the Technology Transfer Commercialization Act of 2000, Public Law 106-404, codified at 42 U.S.C. 7261c(c)(3)(C).

Signing Authority: This document of the Department of Energy was signed on May 9, 2025, by Poli A. Marmolejos, Director, Office of Hearings and Appeals, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on May 12, 2025.
Jennifer Hartzell,
Alternate Federal Register Liaison Officer, U.S. Department of Energy.

[FR Doc. 2025-08638 Filed 5-14-25; 8:45 am]

BILLING CODE 6450-01-P